DEPARTMENT OF JUSTICE

Immigration and Naturalization Service

8 CFR Part 245

[INS No. 1825-97]

RIN 1115-AE25

Adjustment of Status for Certain Polish and Hungarian Parolees

AGENCY: Immigration and Naturalization Service, Justice.

ACTION: Final rule.

SUMMARY: This final rule adopts, with changes, the interim rule the Immigration and Naturalization Service (Service) published in the Federal Register on May 23, 1997. The interim rule provided for the adjustment to lawful permanent resident status of certain alien parolees from Poland or Hungary who were paroled into the United States between November 1, 1989, and December 31, 1991, and established terms that enabled these individuals to apply for permanent resident status. This final rule responds to a comment the Service received by adding a list of the eligibility requirements for adjustment under this provision.

DATES: This final rule is effective May 15, 2000.

FOR FURTHER INFORMATION CONTACT: Michael Valverde, Program Analyst, Immigration and Naturalization Service, Adjudications Division, 425 I Street, NW, Room 3214, Washington, DC 20536, telephone (202) 514-3228.

SUPPLEMENTARY INFORMATION:

Background

What Authority Provides for Adjustment of Status for Nationals From Poland or Hungary?

Section 646 of the Illegal Immigration Reform and Immigrant Responsibility Act of 1996 (IIRIRA), Public Law 104-208, dated September 30, 1996, provides for the adjustment to lawful permanent resident status for certain nationals of Poland or Hungary who, after having been denied refugee status, were inspected and granted parole in the United States during the period beginning on November 1, 1989, and ending on December 31, 1991.

How Did the Service Implement the Provisions of Section 646 of the IIRIRA?

On May 23, 1997, the Service published an interim rule in the Federal Register at 62 FR 28314, which added § 245.12, to establish the procedures by which eligible aliens may obtain the benefits of section 646(b) of the IIRIRA. The public was given a 60-day period to comment on the interim rule.

What Comments did the Service Receive?

The Service received one written comment on the interim rule. The commenter noted the eligibility requirements for benefits, under section 646 of Public Law 104-208, were not stated in the Immigration and Nationality Act (Act). The commenter felt it was necessary to state the eligibility requirements for benefits in this rule for prospective applicants.

The Service agrees with the commenter that eligibility requirements for benefits, under section 646 of Public Law 104-208, are not stated in the Act. Accordingly, the Service has incorpo- rated these statutory requirements into § 245.12(a)(3) and (4) of the final rule.

What Other Changes to the Final Rule did the Service Make?

The Service is also amending § 245.12 to reflect changes made by section 308 of the IIRIRA. Section 308 redesignated serveral sections of the Act, including section 232 of the Act regarding medical examinations. An applicant's medical examination must comply with § 232.1 and § 245.5 to meet the eligibility requirements for adjustment of status. Accordingly, the Service is amending § 245.12(a) by adding a reference to § 232.1. Section 245.12(a) in the interim rule made reference to collecting information on Form I-643, Health and Human Services Statistical Data, as a part of the filing process. However, the reference to Form I-643 has been removed because it does not properly apply to applicants under section 646 of the IIRIRA, but rather to refugees.

Regulatory Flexibility Act

The Commissioner of the Immigration and Naturalization Service, in accordance with the Regulatory Flexibility Act (5 U.S.C. 605(b)), has reviewed this regulation, and by approving it, certifies that this rule will not have a significant economic impact on a substantial number of small entities because this rule affects individuals who are adjusting status to permanent resident.

Unfunded Mandates Reform Act of 1995

This rule will not result in expenditure by State, local, and tribal governments, in the aggregate, or by the private sector, of $100 million or more in any 1 year, and it will not significantly or uniquely affect small governments. Therefore, no actions were deemed necessary under the provisions of the Unfunded Mandates Reform Act of 1995.

Small Business Regulatory Enforcement Fairness Act of 1996

This rule is not a major rule as defined by section 804 of the Small Business Regulatory Enforcement Act of 1996. This rule will not result in an anual effect on the economy of $100 million or more; a major increase in cost or prices; or significant adverse effects on competition, employment, investment, productivity, innovation, or on the ability of United States-based companies to compete with foreign-based companies in domestic and export markets.

Executive Order 12866

This rule is not considered by the Department of Justice, Immigration and Naturalization Service, to be a “significant regulatory action'' under Executive Order (E.O., 12866, section 3(f), Regulatory Planning and Review, and the Office of Management and Budget (OMB) has waived its review under section 6(a)(3)(A).

Executive Order 13132

This rule will not have substantial direct effects on the States, on the relationship between the National Government and the States, or on the distribution of power and responsibilities among the various levels of government. Therefore, in accordance with section 6 of E.O. 13132, the Immigration and Naturalization Service has determined that this rule does not have sufficient federalism implcations to warrant the preparation of a federalism summary impact statement.

Executive Order 12988 Civil Justice Reform

This rule meets the applicable standards set forth in section 3(a) and 3(b)(2) of E.O. 12988.

Paperwork Reduction Act

This final rule does not impose any new reporting or recordkeeping requirements. The information collection requirements contained in this rule have previously been approved for use by the OMB under provisions of the Paperwork Reduction Act. The OMB control numbers for these collections are contained in 8 CFR 299.5, Display of control numbers.

List of Subjects in 8 CFR Part 245

Aliens, Immigration, Reporting and recordkeeping requirements.

Accordingly, the interim rule amending 8 CFR part 245 which was published at 62 FR 28314 on May 23, 1997, is adopted as a final rule with the following changes:

PART 245—ADJUSTMENT OF STATUS TO THAT OF PERSON ADMITTED FOR PERMANENT RESIDENCE

1. The authority citation for part 245 continues to read as follows:

Authority: 8 U.S.C. 1101, 1103, 1182, 1255; sec. 202, Pub. L. 105-100, 111 Stat. 2160, 2193; sec. 902, Pub. L. 105-277, 112 Stat. 2681; 8 CFR part 2.

2. Section 245.12 is revised to read as follows:

§ 245.12 What are the procedures for certain Polish and Hungarian parolees who are adjusting status to that of permanent resident under the Illegal Immigration Reform and Immigrant Responsibility Act of 1996?

(a) How do I apply for adjustment of status under this section? (1) Each person applying for adjustment of status, under section 646(b) of Public Law 104-208, must file a completed Form I-485, Application to Register Permanent Residence or Adjust Status, with the correct filing fee, with the Service director having jurisdiction over the applicant's place of residence.

(2) The application must include Form G-325A, Biographic Information and the results of the medical examination made according to § 232.1 of this chapter and § 245.5.

(3) The application must include evidence to show the applicant was a national of Poland or Hungary who, after being denied refugee status, was inspected and granted parole into the United States between November 1, 1989, and December 31, 1991.

(4) The applicant must have been physically present in the United States for at least 1 year before filing a Form I-485.

(5) After receiving the Form I-485, the adjudicating Service office will notify each applicant who is 14 years old or older of the time and location for the required fingerprinting.

(b) How is my application for adjustment of status affected if I leave the United States while my application is still pending? The departure from the United States by an applicant for adjustment of status must be considered an abandonment of the application, as provided in § 245.2(a)(4)(ii), unless the applicant was previously granted advance parole for such absence, and was reinspected on returning to the United States.

(c) Which grounds for inadmissibility do not apply or can be waived? The provisions of section 212(a) (4), (5), and (7)(A) of the Act will not apply to adjustment of status under § 245.12. In addition, the director may waive any other ground of inadmissibility except section 212(a)(2)(C) or 212(a)(3)(A), (B), (C), or (E) of the Act, for humanitarian purposes, to ensure family unity, or when it is otherwise in the public interest.

(d) If my application for adjustment of status is approved under § 245.12, what date will be recorded as my admission to permanent residence? On approval of the application for adjustment of status, the date of the applicant's admission to permanent resident status will be the date of the applicant's inspection and parole, as described in paragraph (a) of this section.

Dated: March 28, 2000.
Doris Meissner,
Commissioner, Immigration and Naturalization Service.

[FR Doc. 00-9320 Filed 4-13-00; 8:45 am]

BILLING CODE 4410-10-M